DEPARTMENT OF ENERGY

Federal Energy Regulatory Commission

Combined Notice of Filings

December 17, 2008.

Take notice that the Commission has received the following Natural Gas Pipeline Rate and Refund Report filings:

Docket Numbers: RP00-157-023.

Applicants: Kern River Gas Transmission Company.

Description: Kern River Gas Transmission Company submits the third refund report for refunds paid December 1, 2008.

Filed Date: 12/10/2008.

Accession Number: 20081210-5137.

Comment Date: 5 p.m. Eastern Time on Monday, December 22, 2008.

Docket Numbers: RP04-274-013.

Applicants: Kern River Gas Transmission Company.

Description: Kern River Gas Transmission Company submits the third refund report for refunds paid December 1, 2008.

Filed Date: 12/10/2008.

Accession Number: 20081210-5137.

Comment Date: 5 p.m. Eastern Time on Monday, December 22, 2008.

Docket Numbers: RP04-67-004.

Applicants: NGO Transmission, Inc.

Description: NGO Transmission, Inc. submits First Revised Sheet 170 to FERC Gas Tariff, Original Volume 1.

Filed Date: 12/15/2008.

Accession Number: 20081216-0020.

Comment Date: 5 p.m. Eastern Time on Monday, December 29, 2008.

Docket Numbers: RP08-347-004.

Applicants: Columbia Gulf Transmission Company.

Description: Columbia Gas Transmission, LLC submits Forty Seventh Revised Sheet 18 et al. to FERC Gas Tariff Second Revised Volume 1.

Filed Date: 12/15/2008.

Accession Number: 20081216-0018.

Comment Date: 5 p.m. Eastern Time on Monday, December 29, 2008.

Docket Numbers: RP09-141-001.

Applicants: Columbia Gulf Transmission Company.

Description: Columbia Gas Transmission, LLC submit Substitute First Revised Sheet 64 to FERC Gas Tariff Second Revised Volume 1.

Filed Date: 12/15/2008.

Accession Number: 20081216-0019.

Comment Date: 5 p.m. Eastern Time on Monday, December 29, 2008.

Docket Numbers: RP09-142-001.

Applicants: Columbia Gas Transmission, LLC.

Description: Columbia Gas Transmission, LLC submits Second Revised Sheet 506 et al. to FERC Gas Tariff Second Revised Volume 1.

Filed Date: 12/15/2008.

Accession Number: 20081216-0017.

Comment Date: 5 p.m. Eastern Time on Monday, December 29, 2008.

Docket Numbers: RP09-154-000.

Applicants: Young Gas Storage Company, Ltd.

Description: Young Gas Storage Company, Ltd submits Sixteenth Revised Sheet 4 et al. to FERC Gas Tariff, Original Volume 1, to be effective 12/1/08.

Filed Date: 12/12/2008.

Accession Number: 20081215-0268.

Comment Date: 5 p.m. Eastern Time on Wednesday, December 24, 2008.

Docket Numbers: RP09-155-000.

Applicants: Canyon Creek Compression Company.

Description: Canyon Creek Compression Company submits Fourth Revised Sheet 1 to provide for the cancellation of FERC Gas Tariff, Third Revised Volume 1, to be effective 1/12/09.

Filed Date: 12/12/2008.

Accession Number: 20081215-0267.

Comment Date: 5 p.m. Eastern Time on Wednesday, December 24, 2008.

Docket Numbers: RP09-156-000.

Applicants: Transwestern Pipeline Company, LLC.

Description: Transwestern Pipeline Company, LLC submits Second Revised Sheet 169 et al. to FERC Gas Tariff, Third Revised Volume 1, to be effective 1/10/09.

Filed Date: 12/12/2008.

Accession Number: 20081215-0266.

Comment Date: 5 p.m. Eastern Time on Wednesday, December 24, 2008.

Docket Numbers: RP09-157-000.

Applicants: Barclays Bank PLC, Barclays Capital Energy Inc., UBS AG.

Description: Barclays Bank PLC, et al. submits Notice of Change of Ownership, Request for Temporary Waiver, Request for Expedited Action, and Request for Shortened Notice Period.

Filed Date: 12/15/2008.

Accession Number: 20081215-5099.

Comment Date: 5 p.m. Eastern Time on Wednesday, December 24, 2008.

Docket Numbers: RP09-158-000.

Applicants: Transcontinental Gas Pipe Line Company.

Description: Transcontinental Gas Pipe Line Corp submits Original Sheet 1 et al. to FERC Gas Tariff, Fourth Revised Volume 1 and First Revised Volume 2, to be effective 12/31/08.

Filed Date: 12/15/2008.

Accession Number: 20081217-0043.

Comment Date: 5 p.m. Eastern Time on Monday, December 29, 2008.

Any person desiring to intervene or to protest in any of the above proceedings must file in accordance with Rules 211 and 214 of the Commission's Rules of Practice and Procedure (18 CFR 385.211 and 385.214) on or before 5 p.m. Eastern time on the specified comment date. It is not necessary to separately intervene again in a subdocket related to a compliance filing if you have previously intervened in the same docket. Protests will be considered by the Commission in determining the appropriate action to be taken, but will not serve to make protestants parties to the proceeding. Anyone filing a motion to intervene or protest must serve a copy of that document on the Applicant. In reference to filings initiating a new proceeding, interventions or protests submitted on or before the comment deadline need not be served on persons other than the Applicant.

The Commission encourages electronic submission of protests and interventions in lieu of paper, using the FERC Online links at http://www.ferc.gov. To facilitate electronic service, persons with Internet access who will eFile a document and/or be listed as a contact for an intervenor must create and validate an eRegistration account using the eRegistration link. Select the eFiling link to log on and submit the intervention or protests.

Persons unable to file electronically should submit an original and 14 copies of the intervention or protest to the Federal Energy Regulatory Commission, 888 First St., NE., Washington, DC 20426.

The filings in the above proceedings are accessible in the Commission's eLibrary system by clicking on the appropriate link in the above list. They are also available for review in the Commission's Public Reference Room in Washington, DC. There is an eSubscription link on the Web site that enables subscribers to receive email notification when a document is added to a subscribed docket(s). For assistance with any FERC Online service, please email FERCOnlineSupport@ferc.gov or call (866) 208-3676 (toll free). For TTY, call (202) 502-8659.

Nathaniel J. Davis, Sr.,
Deputy Secretary.

[FR Doc. E8-30508 Filed 12-22-08; 8:45 am]

BILLING CODE 6717-01-P